DEPARTMENT OF THE TREASURY

Bureau of the Public Debt

Senior Executive Service; Public Debt Performance Review Board

AGENCY: Bureau of the Public Debt, Treasury.

ACTION: Notice.

SUMMARY: This notice announces the appointment of the members of the Public Debt Performance Review Board (PRB) for the Bureau of the Public Debt (BPD). The PRB reviews the performance appraisals of career senior executives who are below the level of Assistant Commissioner/Executive Director and who are not assigned to the Office of the Commissioner in BPD. The PRB makes recommendations regarding proposed performance appraisals, ratings, bonuses, pay adjustments, and other appropriate personnel actions.

DATES: Effective on October 25, 2012.

FOR FURTHER INFORMATION CONTACT: Angela Jones, Bureau of the Public Debt, (304) 480-8949.

SUPPLEMENTARY INFORMATION: This Notice announces the appointment of the following primary and alternate members to the Bureau of the Public Debt (BPD) PRB:

Primary Members

Anita D. Shandor, Deputy Commissioner, Office of the Commissioner, BPD;

Kimberly A. McCoy, Assistant Commissioner, Office of Information Technology, BPD;

Cynthia Z. Springer, Assistant Commissioner, Office of Administrative Services, BPD;

Paul V. Crowe, Assistant Commissioner, Office of Retail Securities, BPD.

Alternate Members

Dara Seaman, Assistant Commissioner, Office of Financing, BPD.

Authority: 5 U.S.C. 4314(c)(4)

Anita D. Shandor,
Deputy Commissioner.

[FR Doc. 2012-26291 Filed 10-24-12; 8:45 am]

BILLING CODE 4810-39-P